FEDERAL COMMUNICATIONS COMMISSION

Notice of Public Information Collection(s) Being Reviewed by the Federal Communications Commission

August 2, 2007.

SUMMARY: The Federal Communications Commission, as part of its continuing effort to reduce paperwork burden, invites the general public and other Federal agencies to take this opportunity to comment on the following information collection(s), as required by the Paperwork Reduction Act of 1995 (PRA), Public Law 104-13. An agency may not conduct or sponsor a collection of information unless it displays a current valid control number. No person shall be subject to any penalty for failing to comply with a collection of information subject to the PRA that does not display a valid control number. Comments are requested concerning: (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written PRA comments should be submitted on or before October 15, 2007. If you anticipate that you will be submitting comments, but find it difficult to do so within the period of time allowed by this notice, you should advise the contact listed below as soon as possible.

ADDRESSES: Direct all PRA comments to Les Smith, Federal Communications Commission, Room 1-C216, 445 12th Street, SW., Washington, DC 20554, or via the Internet to PRA@fcc.gov.

FOR FURTHER INFORMATION CONTACT: For additional information or copies of the information collection(s) contact Les Smith at (202) 418-0217 or via the Internet at PRA@fcc.gov.

SUPPLEMENTARY INFORMATION: OMB Control Number: 3060-0589.

Title: FCC Remittance Advice and Continuation Sheet, Bill for Collection, FCC Remittance Advice for Regulatory Fees (E-Form).

Form Number(s): FCC Forms 159, 159-C, 159-B, and 159-E.

Type of Review: Revision of a currently approved collection.

Respondents: Individuals or households; Business or other for-profit entities; Not-for-profit institutions; Federal government; and State, local, or tribal government.

Number of Respondents: 150,000.

Estimated Time per Response: 10 minutes to 4 hours.

Frequency of Response: On occasion and annual reporting requirements; Third party disclosure.

Obligation To Respond: Required to obtain or retain benefits.

Total Annual Burden: 37,500 hours.

Total Annual Cost: None.

Nature and Extent of Confidentiality: There is no need for confidentiality, except for personally identifiable information (PII) individuals may submit, which is covered by a system of records notice (SORN), FCC/OMD-9, “Commission Registration System (CORES).”

Privacy Impact Assessment: No, the FCC will conduct a Privacy Impact Assessment when it revises the information system(s) covered by FCC/OMD-9, “Commission Registration System (CORES),” SORN.

Needs and Uses: On August 2, 2007, the FCC released a Report and Order and Further Notice of Proposed Rulemaking (R&O and FNPRM), In the Matter of Assessment and Collection of Regulatory Fees for Fiscal Year 2007, MD Docket No. 07-81, FCC 07-140, in which it added licensees of earth stations and cable television relay service (CARS) stations to those entities for which the FCC will bill for regulatory fees. The Commission has also applied regulatory fee obligations to interconnected Voice over Internet Protocol (VoIP) providers. As a result of these two actions, which were taken in this R&O and FNPRM, the FCC is modifying FCC Form 159, 159-C, and 159-E to accommodate these two new billing requirements.

The Commission created a streamlined electronic form, FCC Form 159-E, to associate a mailed or faxed payment with regulatory fees, which are filed on-line. Pertinent information is taken directly from the regulatory fee electronic filing system (Fee Filer) and populated on the FCC Form 159-E, which can be printed by the filer. The FCC Form 159-E, essentially a simple payment voucher, contains summary information, which distinguishes the payment but not detailed information about the fee(s). Specific associated fee information is available on a separate report, which the filer does not need to remit. Beginning with the FY 2005 regulatory fees, the Commission has required FCC Form 159-E to accompany all payments derived from the regulatory fee electronic filing system, except on-line payments, which do not require any paper submission. Payment may be made by check or money order, credit card or wire transfer.

The Commission uses this information to apply credit for the remittance against all regulatory fees within the associated electronic submission. The payment instrument must be in the dollar amount specified on the FCC Form 159-E for full credit to be applied.

Expanded use of the FCC Form 159-E is possible in the future as additional streamlining for this process is implemented. This form may be used in lieu of pre-populated FCC Form 159s, which are currently produced to facilitate remittance for various electronic filings. The FCC Form 159-E may, therefore, impact users of all electronic filing systems, as well as users of an FCC bill paying system (currently Fee Filer and the Red Light Display system).

This information collection may affect some individuals or households; however, the Commission has in place a registration process http://www.fcc.gov, which issues a Federal Registration Number (FRN) to each applicant/licensee, etc., for use in filing any of these FCC Forms 159/159-C, 159-B, and 159-E. As part of the registration process, the applicant/licensee's SSN or TIN is stored in a secure environment, which minimizes any potential privacy risks.

OMB Control Number: 3060-0949.

Title: Interstate Telecommunications Service Provider Worksheet, FCC Form 159-W.

Form Number: FCC Form 159-W.

Type of Review: Extension of a currently approved collection.

Respondents: Business and other for-profit entities.

Number of Respondents: 3,700.

Estimated Time per Response: 0.5 hours (30 minutes).

Frequency of Response: On occasion and annual reporting requirements.

Obligation To Respond: Required to obtain or retain benefits.

Total Annual Burden: 1,850 hours.

Total Annual Costs: None.

Nature and Extent of Confidentiality: There is no need for confidentiality, except for personally identifiable information individuals may submit, which is covered by a system of records notice (SORN), FCC/OMD-9, “Commission Registration System (CORES).”

Privacy Impact Assessment: No, the FCC will conduct a Privacy Impact Assessment when it revises the information system(s) covered by FCC/OMD-9, “Commission Registration System (CORES)” SORN.

Needs and Uses: On August 2, 2007, the FCC released a Report and Order and Further Notice of Proposed Rulemaking (R&O and FNPRM), In the Matter of Assessment and Collection of Regulatory Fees for Fiscal Year 2007, MD Docket No. 07-81, FCC 07-140, in which it added licensees of earth stations and cable television relay service (CARS) stations to those entities for which the FCC will bill for regulatory fees. The Commission has also applied regulatory fee obligations to interconnected Voice over Internet Protocol (VoIP) providers. As a result of these two actions, which were taken in this R&O and FNPRM, the FCC is modifying FCC Form 159-W, among other things, as cited above in 3060-0589, to accommodate these two new billing requirements.

Section 9 of the Communications Act of 1934, as amended, authorizes the FCC to assess and to collect regulatory fees to recover costs incurred in carrying out the Commission's enforcement actions, policies, rulemaking activities, and user information services. Telecommunications licensees and permittees that provide interstate, international, mobile, and satellite services, including telephone operator services, must pay those fees, which are based upon a percentage of the licensee/permittee's interstate revenues. The FCC bills telecommunications licensees and permittees using the FCC Form 159-W as the invoice. The FCC developed FCC Form 159-W to provide a convenient format for these telecommunications licensees and permittees to verify the information that is extracted from the interstate revenue information (which are already “populated” on this form) and to verify the simple calculation of the fee amount that is due, correcting any inaccuracies as necessary. The FCC uses this form to bill the telecommunications licensee or permittee the amount of its regulatory fee. The FCC is making minor revisions to FCC Form 159-W to provide a clearer format. Respondents may access FCC Form 159-W on line through the FCC's Web page: http://www.fcc.gov/frnreg if they wish to submit payment prior to being billed.

Federal Communications Commission.
Marlene H. Dortch,
Secretary.

[FR Doc. E7-15577 Filed 8-15-07; 8:45 am]

BILLING CODE 6712-01-P